DEPARTMENT OF AGRICULTURE

Office of the Chief Financial Officer

Notice of Request for Extension of a Currently Approved Information Collection

AGENCY: National Finance Center (NFC), United States Department of Agriculture (USDA).

ACTION: 60-day notice and request for comments.

SUMMARY: In accordance with the Paperwork Reduction Act of 1995 (44 U.S.C. Chapter 35), this notice announces the USDA, NFC's intention to request a review of a currently approved information collection for the Direct Premium Remittance System (DPRS), Form DPRS-2809 Request to Change FEHB Enrollment.

DATES: Comments on this notice must be received by October 27, 2014 to be assured of consideration.

FOR FURTHER INFORMATION CONTACT: A copy of this information collection, with applicable supporting documentation, may be obtained by contacting Adrianne F. Riviere, Chief, Government Insurance Services Branch, USDA, NFC, DPRS Billing Unit, P.O. Box 61760, New Orleans, LA 70161-1760; telephone: 504-426-1311; telefax 303-205-3172; or email to nfc.dprs@nfc.usda.gov.

SUPPLEMENTARY INFORMATION:

Title: DPRS-2809, Request to Change FEHB Enrollment.

OMB Number: 0505-0024.

Expiration Date of Approval: October 31, 2014.

Type of Request: Extension of a currently approved information collection.

Abstract: The DPRS-2809, Request to Change FEHB Enrollment, is for Spouse Equity Act/Temporary Continuation of Coverage (TCC) enrollees and direct pay annuitants who are eligible to elect, cancel, or change health benefits enrollment during the open season each year.

Estimated Time per Respondent: Public reporting burden for this collection of information is estimated to average 45 minutes per response.

Respondents: Individuals who are under the Spouse Equity Act/TCC and direct pay annuitants who are eligible to make Federal Employees Health Benefits plan changes during open season.

Estimated Number of Respondents: 25,000.

Estimated Number of Responses per Respondent: 1 (one).

Estimated Total Annual Burden on Respondents: 18,750.

Request for Comments: Comments are invited on: (1) Whether the proposed collection of information is necessary for the proper performance of the functions of the Agency, including whether the information will have practical utility; (2) the accuracy of the Agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Interested persons are invited to submit written comments on the proposed information collection. Comments may be sent to DPRS via email to nfc.dprs@nfc.usda.gov. All comments received will be available for public inspection during regular business hours at the same address.

All responses to this notice will be summarized and included in the request for the Office Management and Budget's approval. All comments will become a matter of public record.

John S. White,
Director, National Finance Center.

[FR Doc. 2014-20217 Filed 8-27-14; 8:45 am]

BILLING CODE 3410-KS-P